COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add service(s) to the Procurement List that will be furnished by nonprofit agencies employing persons who are blind or have other severe disabilities.

DATES: Comments must be received on or before: June 23, 2024.

ADDRESSES: Committee for Purchase From People Who Are Blind or Severely Disabled, 355 E Street SW, Suite 325, Washington, DC 20064.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

In accordance with 41 CFR 51-5.3(b), the Committee intends to add these service requirements to the Procurement List as a mandatory purchase only for the contracting activities listed as the listed locations with the proposed qualified nonprofit agency as the authorized source of supply. Prior to adding the services to the Procurement List, the Committee will consider other pertinent information, including information from Government personnel and relevant comments from interested parties regarding the Committee's intent to geographically limit this services requirement.

The following service(s) are proposed for addition to the Procurement List for production by the nonprofit agencies listed:

Service(s)

Service Type: Supply and Warehousing Service

Mandatory for: US Navy, Naval Supply Systems Command, Fleet Logistics Center, Hawaii Zone, Pearl Harbor, HI

Mandatory for: US Navy, Naval Supply Systems Command, Fleet Logistics Center, Diego Garcia Zone, San Diego, CA

Mandatory for: US Navy, Naval Supply Systems Command, Fleet Logistics Center, Mayport Zone, Mayport, FL

Mandatory for: US Navy, Naval Supply Systems Command, Fleet Logistics Center, Norfolk Zone, NAS Virginia Beach, VA

Mandatory for: US Navy, Naval Supply Systems Command, Fleet Logistics Center, Pacific Northwest Zone, Seattle, WA

Mandatory for: US Navy, Naval Supply Systems Command, Fleet Logistics Center, Southwest Zone, San Diego, CA

Authorized Source of Supply: South Texas Lighthouse for the Blind, Corpus Christi, TX

Service Type: Contractor Operated Civil Engineer Supply Store

Mandatory for: US Air Force, Hanscom Air Force Base, Hanscom AFB, MA

Authorized Source of Supply: Industries for the Blind and Visually Impaired, Inc., West Allis, WI

Contracting Activity: DEPT OF THE AIR FORCE, FA2835 AFLCMC HANSCOM PZI

Michael R. Jurkowski,
Director, Business Operations.

[FR Doc. 2024-11499 Filed 5-23-24; 8:45 am]

BILLING CODE 6353-01-P